DEPARTMENT OF HEALTH AND HUMAN SERVICES

Notice of Meeting of the Advisory Committee on Minority Health

AGENCY: Office of the Secretary, Office of Public Health and Science, Office of Minority Health.

ACTION: Notice.

The Advisory Committee on Minority Health will meet on Thursday, December 12, 2002 from 9 a.m. to 5 p.m., and Friday, December 13, 2002 from 8:30 a.m.-12 Noon. The meeting will be held at the Hyatt Regency Bethesda, Lalique Room, One Bethesda Metro Center (Wisconsin Avenue at Old Georgetown Road), Washington, DC, 20814.

The Advisory Committee will discuss racial and ethnic disparities in health, as well as, other related issues.

The meeting is open to the public. There will be an opportunity for public comment, which will be limited to five minutes per speaker. Individuals who would like to submit written statements should mail or fax their comments to the Office of Minority Health at least two business days prior to the meeting.

For further information, please contact Ms. Sheila P. Merriweather, Rockwall II Building, 5515 Security Lane, Suite 1000, Rockville, Maryland 20852. Phone: 301-443-9923; Fax: 301-443-8280.

Dated: November 15, 2002.
Nathan Stinson, Jr.,
Deputy Assistant Secretary for Minority Health.

[FR Doc. 02-30149 Filed 11-26-02; 8:45 am]

BILLING CODE 4150-29-P